DEPARTMENT OF COMMERCE

International Trade Administration

[A-428-816]

Certain Cut-to-Length Steel Plate From Germany: Extension of Time Limits for the Preliminary Results of Antidumping Duty Administrative Review

AGENCY: Import Administration, International Trade Administration, Department of Commerce.

DATES: Effective Date: April 6, 2006.

FOR FURTHER INFORMATION CONTACT: Dennis McClure or Stephanie Moore (202) 482-5973 or (202) 482-3692, respectively, AD/CVD Operations, Office 3, Import Administration, International Trade Administration, U.S. Department of Commerce, 14th Street and Constitution Ave., NW., Washington, DC 20230.

Background

On September 28, 2005, the U.S. Department of Commerce (“the Department”) published a notice of initiation of the administrative review of the antidumping duty order on certain cut-to-length carbon steel plate from Germany, covering the period August 1, 2004, to July 31, 2005. See Initiation of Antidumping and Countervailing Duty Administrative Reviews and Requests for Revocation in Part, 70 FR 56631 (September 28, 2005). The preliminary results of this review are currently due no later than May 3, 2006.

Extension of Time Limit of Preliminary Results

Section 751(a)(3)(A) of the Tariff Act of 1930, as amended (“the Act”), requires the Department to make a preliminary determination in an administrative review within 245 days after the last day of the anniversary month of an order or finding for which a review is requested. Consistent with section 751(a)(3)(A) of the Act, the Department may extend the 245-day period to 365 days if it is not practicable to complete the review within a 245-day period.

We determine that completion of the preliminary results of this review within the 245-day period is not practicable. A number of complex issues concerning the respondent company's intercorporate relationships have arisen in the case. As a result, the Department needs additional time to gather supplemental responses from the company and its affiliate participating in the review. In order to obtain and analyze the necessary additional information, we are extending the time period for issuing the preliminary results of review by 120 days to August 31, 2006, in accordance with section 751(a)(3)(A) of the Act and 19 CFR 351.213(h)(2) of the Department's regulations. Therefore, the preliminary results are now due no later than August 31, 2006. The final results continue to be due 120 days after publication of the preliminary results.

This notice is published in accordance with sections 751(a)(3)(A) and 777(i) of the Act.

Dated: March 30, 2006.
Stephen J. Claeys,
Deputy Assistant Secretary for Import Administration.

[FR Doc. E6-5029 Filed 4-5-06; 8:45 am]

BILLING CODE 3510-DS-P